DEPARTMENT OF COMMERCE

International Trade Administration

[A-489-837]

Certain Quartz Surface Products From the Republic of Türkiye: Final Results of the Expedited First Sunset Review of the Antidumping Duty Order

AGENCY: Enforcement and Compliance, International Trade Administration, Department of Commerce.

SUMMARY: As a result of the expedited sunset review, the U.S. Department of Commerce (Commerce) finds that revocation of the antidumping duty (AD) order on certain quartz surface products (quartz surface products) from the Republic of Türkiye (Türkiye) would likely lead to the continuation or recurrence of dumping at the levels indicated in the “Final Results of Sunset Review” section of this notice.

DATES: Applicable September 2, 2025.

FOR FURTHER INFORMATION CONTACT: Juanita Chen, Trade Agreements Policy and Negotiations, Enforcement and Compliance, International Trade Administration, U.S. Department of Commerce, 1401 Constitution Avenue NW, Washington, DC 20230; telephone: (202) 482-1378.

SUPPLEMENTARY INFORMATION:

Background

On June 22, 2020, Commerce published the AD Order on QSP from Türkiye.¹ On May 1, 2025, Commerce published the notice of initiation of the five-year sunset review of the Order, pursuant to section 751(c) of the Tariff Act of 1930, as amended (the Act).² On May 13, 2025, Commerce received a notice of intent to participate in this sunset review from Cambria Company LLC, Dal-Tile LLC, and Guidoni USA (collectively, the Domestic Interested Parties) within the deadline specified in 19 CFR 351.218(d)(1).³ The Domestic Interested Parties claimed interested party status under section 771(9)(C) of the Act as producers of a domestic like product in the United States.

¹ See Certain Quartz Surface Products from India and Turkey: Antidumping Duty Orders, 85 FR 37422 (June 22, 2020) (Order).

² See Initiation of Five-Year (Sunset) Reviews, 90 FR 18642 (May 1, 2025).

³ See Domestic Interested Parties' Letter, “Notice of Intent to Participate in the First Five-Year Review of the Antidumping Duty Order on Quartz Surface Products from the Republic of Turkey,” dated May 13, 2025.

On June 2, 2025, the Domestic Interested Parties jointly filed a timely substantive response within the deadline specified in 19 CFR 351.218(d)(3)(i).⁴ Commerce received no substantive responses from any other interested parties, nor was a hearing requested. On June 20, 2025, Commerce notified the U.S. International Trade Commission (ITC) that it did not receive an adequate substantive response from respondent interested parties.⁵ As a result, pursuant to section 751(c)(3)(B) of the Act and 19 CFR 351.218(e)(1)(ii)(C)(2), Commerce conducted an expedited (120-day) sunset review of the Order.

⁴ See Domestic Interested Parties' Letter, “First Five-Year (“Sunset”) Review of the Antidumping Duty Order on Quartz Surface Products from the Republic of Turkey: Domestic Interested Parties' Substantive Response,” dated June 2, 2025 (Substantive Response).

⁵ See Commerce's Letter, “Sunset Reviews Initiated on May 1, 2025,” dated June 20, 2025.

Scope of the Order

The merchandise subject to the Order is quartz surface products. For a complete description of the scope of the Order, see the Issues and Decision Memorandum.⁶

⁶ See Memorandum, “Issues and Decision Memorandum for the Final Results of the First Expedited Sunset Review of the Antidumping Duty Order on Certain Quartz Surface Products from the Republic of Türkiye,” dated concurrently with these results and hereby adopted by this notice (Issues and Decision Memorandum).

Analysis of Comments Received

All issues raised in this review, including the likelihood of continuation or recurrence of dumping in the event of revocation and the magnitude of the margins likely to prevail if the Order were revoked, are addressed in the accompanying Issues and Decision Memorandum.⁷ A list of topics discussed in the Issues and Decision Memorandum is included as an appendix to this notice. The Issues and Decision Memorandum is a public document and is on file electronically via Enforcement and Compliance's Antidumping and Countervailing Duty

⁷ Id.

Centralized Electronic Service System (ACCESS). ACCESS is available to registered users at https://access.trade.gov. In addition, a complete version of the Issues and Decision Memorandum can be accessed at https://access.trade.gov/public/FRNoticesListLayout.aspx.

Final Results of Sunset Review

Pursuant to sections 751(c)(1) and 752(c)(1) and (3) of the Act, Commerce determines that revocation of the antidumping duty order on quartz surface products from Türkiye would be likely to lead to the continuation or recurrence of dumping, and that the magnitude of the margins likely to prevail would be weighted-average dumping margins of up to 5.17 percent.

Administrative Protective Order (APO)

This notice serves as the only reminder to interested parties subject to an APO of their responsibility concerning the return or destruction of proprietary information disclosed under APO in accordance with 19 CFR 351.305. Timely notification of the return or destruction of APO materials or conversion to judicial protective order is hereby requested. Failure to comply with the regulations and terms of an APO is a violation which is subject to sanction.

Notification to Interested Parties

We are issuing and publishing these final results and notice in accordance with sections 751(c), 752(c), and 777(i)(1) of the Act and 19 CFR 351.218(e)(1)(ii)(C)(2) and 19 CFR 351.221(c)(5)(ii).

Dated: August 27, 2025.
Abdelali Elouaradia,
Deputy Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of Dumping

2. Magnitude of the Margin of Dumping Likely to Prevail

VII. Final Results of Expedited Sunset Review

VIII. Recommendation

[FR Doc. 2025-16785 Filed 8-29-25; 8:45 am]

BILLING CODE 3510-DS-P